DEPARTMENT OF THE INTERIOR

National Park Service

Bureau of Land Management

[NM-02-930-1610-DS-005G]

Notice of Availability of Draft Environmental Impact Statement

AGENCY: National Park Service, Bureau of Land Management, Department of the Interior.

ACTION: Notice of availability of Draft Environmental Impact Statement (EIS) for El Camino Real de Tierra Adentro National Historic Trail, and proposed amendments to the Taos, Mimbres and White Sands Resource Management Plans, New Mexico.

SUMMARY: The National Park Service and the Bureau of Land Management announce the availability of the Draft El Camino Real de Tierra Adentro National Historic Trail Comprehensive Management Plan (CMP) and Environmental Impact Statement (EIS). The plan provides alternative visions for managing the trail between El Paso, Texas, and San Juan Pueblo, New Mexico. This plan also addresses Resource Management Plan (RMP) Amendments to the BLM's Taos, White Sands, and Mimbres RMP's related to protection of scenic values.

Added to the National Trails System in October 2000, El Camino Real de Tierra Adentro (Royal Road of the Interior) National Historic Trail (NHT) recognizes the primary route between the colonial Spanish capital of Mexico City and the Spanish provincial capitals at San Juan de Los Caballeros (1598-1600), San Gabriel (1600-1609) and then Santa Fe (1610-1821). The NHT, as designated, extends 404 miles from El Paso, Texas, to San Juan Pueblo, New Mexico.

This draft CMP/EIS focuses on the NHT's purpose and significance, issues and concerns related to current conditions along the NHT, resource protection, visitor experience and use, and long-term administrative and management objectives. Elements of the proposed plan have been developed in cooperation with federal, state, and local agencies as well as nonprofit and non-governmental organizations—the entities that will form the core of partnerships with the NHT. Community meetings were held in Alcalde, Española, Santa Fe, Albuquerque, Socorro, Truth or Consequences, Sunland Park and Las Cruces, New Mexico, as well as in El Paso, Texas. Meetings were held with several North American Indian Pueblos.

The plan provides a range of alternatives for management direction for the NHT, addressing management of BLM-administered lands within the Las Cruces, Socorro, Albuquerque and Taos Field Offices as well as opportunities on other federal, tribal, state, local or private lands. Issues addressed in the draft plan include three statutory requirements (recreation, interpretation and protection of historic values), as well as integration with tribal and community plans, visitor services, education, scenic values and international interests. The following alternatives are discussed in the draft plan:

Alternative A—This is the no-action alternative, which serves as the baseline for evaluating the changes and impacts of the other action alternatives. Under Alternative A, federal agencies would continue to manage their lands (through which the trail passes) based upon their existing management plans. There would be no overall administration or coordination of the NHT. There would be no effective coordination of the activities of an NHT association, private landowners, and federal, state, and local agencies. There would be no directed cooperation that would result in resource protection. Current visitor and recreational activities commemorating or interpreting the trail would continue.

Alternative B—Collaborative efforts by NHT administration and partners would be directed toward the protection of trail resources (historical, cultural, and natural) on both private and public land. Active stewardship and certification priorities would protect threatened trail resources. A coordinated visitor experience along El Camino Real de Tierra Adentro NHT would be provided and structured to promote public understanding and appreciation of NHT-related resources. An auto tour route would be established. Existing recreational opportunities that are not trail-related, but provided by private landowners and various agencies and organizations would continue.

Alternative C (preferred alternative)—An ambitious program of resource preservation and visitor use would be implemented under this alternative. Trail administration and partners would work cooperatively to provide coordinated programming and activities that integrate themes, resources, and landscapes at certified sites on private land or protected sites on public land. Resources that best illustrate the trail's significance would be identified and protected on both public and private land (high-potential sites and segments). Certification priorities would be placed upon sites and segments supporting interpretive and educational programming and protecting significant resources. An auto tour route would be established. A bi-national approach with Mexico would promote activities such as interpretation, events, and signage. The BLM's Taos, White Sands and Mimbres Resource Management Plans would be amended to protect important scenic values.

DATES: Comments must be received within 90 days from the date that the Environmental Protection Agency publishes a Notice of Availability and Filing of the Draft EIS in the Federal Register.

ADDRESSES: National Park Service, Long Distance Trails Office, 2968 Rodeo Park Drive West, Santa Fe, New Mexico; Bureau of Land Management New Mexico State Office, 1474 Rodeo Road, Santa Fe, New Mexico. Correspondence should be addressed to: Team Leaders, El Camino Real de Tierra Adentro National Historic Trail, P.O. Box 728, Santa Fe, New Mexico 87504-0728.

FOR FURTHER INFORMATION CONTACT: Team Leaders, Harry Myers and Terry Humphrey at the address listed above.

SUPPLEMENTARY INFORMATION: A limited number of individual copies of the draft CMP/EIS may be obtained from the address/contacts above. Copies are available for inspection at the Long Distance Trails Office, 2968 Rodeo Park Drive West, Santa Fe, New Mexico. The document is also readily available on CD-ROM in Adobe Acrobat format that can be read by computer regardless of operating system. Copies can be requested from the team leaders at the address or phone numbers listed in the paragraph above. This same document is available at www.elcaminoreal.org. A series of public open houses will be held to discuss the draft plan and answer your questions. Meetings will be announced through press releases and the news media at least 15 days in advance.

If you wish to comment, you may submit your comments by any one of several methods. You may mail comments to Team Leaders, Harry Myers and Terry Humphrey at: El Camino Real de Tierra Adentro National Historic Trail, P.O. Box 728, Santa Fe, New Mexico 87504-0728. You may also comment via the Internet to www.elcaminoreal.org. Please include your name and return address in your Internet message. If you do not receive a confirmation from the system that we have received your Internet message, contact us directly at (505) 988-6717 or (505) 751-4718. Finally, you may hand-deliver comments to the Long Distance Trails Office, 2968 Rodeo Park Drive West, Santa Fe, New Mexico. Our practice is to make comments, including names and home addresses of respondent's, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: July 12, 2002.
Richard A. Whitley,
Acting State Director, BLM—New Mexico, Oklahoma, Texas.
Karen P. Wade,
Director, NPS, Intermountain Region.

[FR Doc. 02-26055 Filed 10-17-02; 8:45 am]

BILLING CODE 4310-84-P; 4310-70-P